DEPARTMENT OF HOMELAND SECURITY

Coast Guard

33 CFR Part 165

[USCG-2008-0218]

RIN 1625-AA00

Safety Zones: Annual Events Requiring Safety Zones in the Captain of the Port Detroit Zone

AGENCY: Coast Guard, DHS.

ACTION: Notice of proposed rulemaking.

SUMMARY: The Coast Guard proposes establishment of safety zones for annual events in the Captain of the Port Detroit zone. This proposed rule consolidates current regulations establishing safety zones for annual fireworks events in the former Captain of the Port Toledo Zone and the former Captain of the Port Detroit Zone. In addition, it adds events not previously published in Coast Guard regulations. These safety zones are necessary to protect spectators, participants, and vessels from the hazards associated with fireworks displays or other events.

DATES: Comments and related materials must reach the Coast Guard on or before June 23, 2008.

ADDRESSES: You may submit comments identified by Coast Guard docket number USCG-2008-0218 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: LT Jeff Ahlgren, Waterways Management, U.S. Coast Guard Sector Detroit, 110 Mount Elliot Ave., Detroit, MI 48207; (313) 568-9580.

I. Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

A. Submitting Comments

If you submit a comment, please include the docket number for this rulemaking (USCG-2008-0218), indicate the specific section of this document to which each comment applies, and give the reason for each comment. We recommend that you include your name, mailing address, and an e-mail address or other contact information in the body of your document to ensure that you can be identified as the submitter. This also allows us to contact you in the event further information is needed or if there are questions. For example, if we cannot read your submission due to technical difficulties and you cannot be contacted, your submission may not be considered. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

B. Viewing Comments and Documents

To view comments, as well as documents mentioned in this preamble as being available in the docket, go to http://www.regulations.gov at any time, click on “Search for Dockets,” and enter the docket number for this rulemaking (USCG-2008-0218) in the Docket ID box, and click enter. You may also visit the Docket Management Facility in Room W12-140 on the ground floor of the DOT West Building, 1200 New Jersey Avenue, SE., Washington, DC 20590, between 9 a.m. and 5 p.m., Monday through Friday, except Federal holidays.

C. Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

SUPPLEMENTARY INFORMATION:

Public Meeting

We do not now plan to hold a public meeting. But you may submit a request for a meeting by writing to Commander, Coast Guard Sector Detroit at the address under ADDRESSES explaining why one would be beneficial. If we determine that one would aid this rulemaking, we will hold one at a time and place announced by a later notice in the Federal Register.

Background and Purpose

In 2005, the Coast Guard consolidated the Captain of the Port Toledo zone and the Captain of the Port Detroit zone into one zone re-defining the Captain of the Port Detroit zone. This proposed rule will consolidate the regulations found in 33 CFR 165.907, Safety Zones; Annual Fireworks Events in the Captain of the Port Detroit Zone with additional events not previously published in the CFR.

These safety zones are necessary to protect vessels and people from the hazards associated with fireworks displays or other events. Such hazards include obstructions to the waterway that may cause marine casualties and the explosive danger of fireworks and debris falling into the water that may cause death or serious bodily harm.

Discussion of Proposed Rule

The proposed rule and associated safety zones are necessary to ensure the safety of vessels and people during annual firework events in the Captain of the Port Detroit area of responsibility that may pose a hazard to the public. This new section unites all the annual Firework events in the recently consolidated COTP Detroit zone into one section of the CFR. In addition, there are several events that are added and some events that have been deleted in this new section.

This proposed rule would add the following events to those already occurring annually: (1) Roostertail Fireworks (land); (2) Roostertail Fireworks (barge); (3) Celebrate America Fireworks; (4) Target Fireworks; (5) Washington Township Summerfest Fireworks; (6) Au Gres City Fireworks; (7) The Old Club Fireworks; (8) Alpena Fireworks; (9) Put-In-Bay Fourth of July Fireworks; (10) Gatzeros Fireworks; (11) Harrisville Fireworks; (12) Harbor Beach Fireworks; (13) Trenton Rotary Roar on the River Fireworks; (14) Nautical Mile Venetian Festival Fireworks; (15) Cheeseburger Festival Fireworks; (16) Detroit International Jazz Festival Fireworks; (17) Marine City Maritime Festival Fireworks; (18) Schoenith Family Foundation Fireworks; (19) Toledo Country Club Memorial Celebration and Fireworks; (20) Luna Pier Fireworks Show; (21) Toledo Country Club 4th of July Fireworks; (22) Pharm Lights Up The Night Fireworks; (23) Perrysburg/Maumee 4th of July Fireworks; (24) Lakeside July 4th Fireworks; (25) Catawba Island Club Fireworks; (26) Red, White and Blues Bang Fireworks; (27) Huron Riverfest Fireworks; (28) Kellys Island, Island Fest Fireworks; (29) Riverfest at the International Docks; (30) Rossford Labor Day Fireworks; (31) Lakeside Labor Day Fireworks; and (32) Catawba Island Club Fireworks.

The following events in the proposed rule already exist in the current regulation and are only being reorganized in this proposed rule: (33) Bay-Rama Fishfly Festival Fireworks; (34) Jefferson Beach Marina Fireworks; (35) Sigma Gamma Association Fireworks; (36) Lake Erie Metropark Fireworks; (37) City of St. Clair Fireworks; (38) Oscoda Township Fireworks; (39) Port Austin Fireworks; (40) City of Wyandotte Fireworks; (41) Grosse Point Farms Fireworks; (42) Caseville Fireworks; (43) Algonac Pickerel Tournament Fireworks; (44) Port Sanilac Fireworks; (45) St. Clair Shores Fireworks; (46) Port Huron 4th of July Fireworks; (47) Grosse Point Yacht Club 4th of July Fireworks; (48) Lexington Independence Festival Fireworks; (49) City of Ecorse Water Festival Fireworks; (50) Grosse Isle Yacht Club Fireworks; (51) Trenton Fireworks; (52) Belle Maer Harbor 4th of July Fireworks; (53) Tawas City 4th of July Fireworks; and (54) Venetian Festival Boat Parade and Fireworks.

The proposed safety zones will be enforced only immediately before, during, and after events that pose hazard to the public, and only upon notice by the Captain of the Port.

The Captain of the Port Detroit will notify the public that the zones in this proposal are or will be enforced by all appropriate means to the affected segments of the public including publication in the Federal Register as practicable, in accordance with 33 CFR 165.7(a). Such means of notification may also include, but are not limited to Broadcast Notice to Mariners or Local Notice to Mariners. The Captain of the Port will issue a Broadcast Notice to Mariners notifying the public when enforcement of the safety zone established by this section is cancelled.

All persons and vessels shall comply with the instructions of the Coast Guard Captain of the Port or the designated representative. Entry into, transiting, or anchoring within the safety zone is prohibited unless authorized by the Captain of the Port Detroit, or his designated representative. The Captain of the Port or his designated representative may be contacted via VHF Channel 16.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary.

The Coast Guard's use of these safety zones will be periodic, of short duration, and designed to minimize the impact on navigable waters. These safety zones will only be enforced immediately before, during, and after the time the events occur. Furthermore, these safety zones have been designed to allow vessels to transit unrestricted to portions of the waterways not affected by the safety zones. The Coast Guard expects insignificant adverse impact to mariners from the activation of these safety zones.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners of operators of vessels intending to transit or anchor in the areas designated as safety zones in subparagraphs (1) through (49) during the dates and times the safety zones are being enforced.

These safety zones would not have a significant economic impact on a substantial number of small entities for the following reasons: This proposed rule would be in effect for short periods of time, and only once per year, per zone. The safety zones have been designed to allow traffic to pass safely around the zone whenever possible and vessels will be allowed to pass through the zones with the permission of the Captain of the Port.

If you think that your business, organization, or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please contact LT Jeff Ahlgren, Waterways Management, U.S. Coast Guard Sector Detroit, 110 Mount Elliot Ave., Detroit, MI 48207; (313) 568-9580. The Coast Guard will not retaliate against small entities that question or complain about this proposed rule or any policy or action of the Coast Guard.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such expenditure, we nevertheless discuss its effects elsewhere in this preamble.

Taking of Private Property

This proposed rule will not effect the taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not create an environmental risk to health or risk to safety that may disproportionately affect children.

Indian Tribal Governments

The Coast Guard recognizes the treaty rights of Native American Tribes. Moreover, the Coast Guard is committed to working with Tribal Governments to implement local policies and to mitigate tribal concerns. We have determined that these safety zones and fishing rights protection need not be incompatible. We have also determined that this proposed rule does not have tribal implications under Executive Order 13175, Consultation and Coordination with Indian Tribal Governments, because it does not have a substantial direct effect on one or more Indian tribes, on the relationship between the Federal Government and Indian tribes, or on the distribution of power and responsibilities between the Federal Government and Indian tribes. Nevertheless, Indian Tribes that have questions concerning the provisions of this proposed rule or options for compliance are encouraged to contact the point of contact listed under FOR FURTHER INFORMATION CONTACT.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD which guides the Coast Guard in complying with the National Environmental Policy Act of 1969 (NEPA) (42 U.S.C. 4321-4370f), and have made a preliminary determination that this action is not likely to have a significant effect on the human environment. A preliminary environmental analysis checklist supporting this preliminary determination is available in the docket where indicated under ADDRESSES. We seek any comments or information that may lead to the discovery of a significant environmental impact from this proposed rule.

List of Subjects in 33 CFR Part 165

Harbors, Marine Safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. Add § 165.941 to read as follows:

§ 165.941 Safety Zones; Annual Fireworks Events in the Captain of the Port Detroit Zone.

(a) Safety Zones. The following areas are designated Safety zones:

(1) Roostertail Fireworks (barge), Detroit, MI: (i) Location: All waters of the Detroit River within a 300-foot radius of the fireworks launch site located at position 42°21′16.67″ N, 082°58′20.41″ W. (NAD 83). This area is located between Detroit and Belle Isle near the Roostertail restaurant.

(ii) Expected date: One evening during the third week in July. The exact dates and times for this event will be determined annually.

(2) Washington Township Summerfest Fireworks, Toledo, OH: (i) Location: All waters of the Ottawa River within a 600-foot radius of the fireworks launch site located at position 41°43′29″ N, 083°28′47″ W (NAD 83). This area is located at the Fred C. Young Bridge, Toledo, OH.

(ii) Expected date: One evening during the last week in June or the first week in July. The exact dates and times for this event will be determined annually.

(3) Au Gres City Fireworks, Au Gres, MI: (i) Location: All waters of Saginaw Bay within a 700-foot radius of the fireworks launch site located at position 44°1.4′ N, 083°40.4′ W (NAD 83). This area is located at the end of the pier near the end of Riverside Drive in Au Gres, MI.

(ii) Expected date: One evening during the last week in June or the first week in July. The exact dates and times for this event will be determined annually.

(4) The Old Club Fireworks, Harsens Island, MI: (i) Location: All waters of Lake St. Clair within an 850-foot radius of the fireworks launch site located at position 42°32.4′ N, 082°40.1′ W (NAD 83). This area is located near the southern end of Harsens Island, MI.

(ii) Expected date: One evening during the last week in June or the first week in July. The exact dates and times for this event will be determined annually.

(5) Alpena Fireworks, Alpena, MI: (i) Location: All waters of Lake Huron within an 800-foot radius of the fireworks launch site located at position 45°2.7′ N, 083°26.8′ W (NAD 83). This area is located near the end of Mason Street, South of State Avenue, in Alpena, MI.

(ii) Expected date: One evening during the last week of June or the first week of July. The exact dates and times for this event will be determined annually.

(6) Put-In-Bay Fourth of July Fireworks, Put-In-Bay, OH: (i) Location: All waters of Lake Erie within a 1000-foot radius of the fireworks launch site located at position 41°39.7′ N, 082°48.0′ W (NAD 83). This area is located in Put-In-Bay Harbor.

(ii) Expected date: One evening during the first week of July. The exact dates and times for this event will be determined annually.

(7) Gatzeros Fireworks, Grosse Point Park, MI: (i) Location: All waters of Lake St. Clair within a 300-foot radius of the fireworks launch site located at position 42°22.6′ N, 082°54.8′ W (NAD 83). This area is located near Grosse Point Park, MI.

(ii) Expected date: One evening during the first week in July. The exact dates and times for this event will be determined annually.

(8) Harrisville Fireworks, Harrisville, MI: (i) Location: All waters of Lake Huron within a 450-foot radius of the fireworks launch site located at position 44°39.7′ N, 083°17.0′ W (NAD 83). This area is located at the end of the break wall at the Harrisville harbor in Harrisville, MI.

(ii) Expected date: One evening during the first week in July. The exact dates and times for this event will be determined annually.

(9) Harbor Beach Fireworks, Harbor Beach, MI: (i) Location: All waters of Lake Huron within a 700-foot radius of the fireworks launch site located at position 4°50.8′ N, 082°38.6′ W (NAD 83). This area is located at the end of the railroad pier east of the end of State Street in Harbor Beach, MI.

(ii) Expected date: One evening during the second week in July. The exact dates and times for this event will be determined annually.

(10) Trenton Rotary Roar on the River Fireworks, Trenton, MI: (i) Location: All waters of the Detroit River within a 420-foot radius of the fireworks launch site located at position 42°7.8′ N, 083°10.4′ W (NAD 83). This area is located between Grosse Ile and Elizabeth Park in Trenton, MI.

(ii) Expected date: One evening during the third week in July. The exact dates and times for this event will be determined annually.

(11) Nautical Mile Venetian Festival Fireworks, St. Clair Shores, MI: (i) Location: All waters of Lake St. Clair within a 210-foot radius of the fireworks launch site located at position 42°28.2′ N, 082°52.5′ W (NAD 83). This area is located near Jefferson Beach Marina in St. Clair Shores, MI.

(ii) Expected date: One evening during the second week in August. The exact dates and times for this event will be determined annually.

(12) Cheeseburger Festival Fireworks, Caseville, MI: (i) Location: All waters of Lake Huron within a 300-foot radius of the fireworks launch site located at position 43°56.9′ N, 083°17.2′ W (NAD 83). This area is located near the break wall located at Caseville County Park, Caseville, MI.

(ii) Expected date: One evening during the second week in August. The exact dates and times for this event will be determined annually.

(13) Detroit International Jazz Festival Fireworks, Detroit, MI: (i) Location: All waters of the Detroit River within a 560-foot radius of the fireworks launch site located at position 42°19.6′ N, 83°2.6′ W (NAD 83). This area is located in the Detroit River between Cobo Hall and the GM Headquarters in Detroit, MI.

(ii) Expected date: One evening during the last week in August or the first week in September. The exact dates and times for this event will be determined annually.

(14) Marine City Maritime Festival Fireworks, Marine City, MI: (i) Location: All waters of the St. Clair River within an 840-foot radius of the fireworks launch site located at position 42°42.9′ N, 082°29.1′ W (NAD 83). This area is located east of Marine City.

(ii) Expected date: One evening during the third week in September. The exact dates and times for this event will be determined annually.

(15) Schoenith Family Foundation Fireworks, Detroit, MI: (i) Location: All waters of the Detroit River, within a 210-foot radius of the fireworks launch site located at position 42°21.2′ N, 82°58.4′ W. (NAD 83). This area is located between Detroit and Belle Isle.

(ii) Expected date: One evening during the third week in September. The exact dates and times for this event will be determined annually.

(16) Toledo Country Club Memorial Celebration and Fireworks, Toledo, OH: (i) Location: All waters of the Maumee River, within a 250-yard radius of the fireworks launch site located on shore at position 41°35′12.58″ N, 83°36′16.58″ W. (NAD 83). This area is located at the Toledo Country Club's 18th Green and encompasses the fireworks launch site.

(ii) Expected date: One evening during the last week in May. The exact dates and times for this event will be determined annually.

(17) Luna Pier Fireworks Show, Luna Pier, MI: (i) Location: All waters of Lake Erie, within a 300-yard radius of the fireworks launch site located at position 41°48′32″ N, 83°26′23″ W. (NAD 83). This area is located at the Clyde E. Evens Municipal Pier.

(ii) Expected date: One evening during the first week in July. The exact dates and times for this event will be determined annually.

(18) Toledo Country Club 4th of July Fireworks, Toledo, OH: (i) Location: All waters of the Maumee River, within a 250-yard radius of the fireworks launch site located on shore at position 41°35′12.58″ N, 83°36′16.58″ W. (NAD 83). This area is located at the Toledo Country Club's 18th Green and encompasses the fireworks launch site.

(ii) Expected date: One evening during the first week in July. The exact dates and times for this event will be determined annually.

(19) Pharm Lights Up The Night Fireworks, Toledo, OH: (i) Location: All waters of the Maumee River, within a 300-yard radius of the fireworks launch site located at position 41°38′35″ N, 83°31′54″ W. (NAD 83). This position is located at the bow of the museum ship SS WILLIS B. BOYER.

(ii) Expected date: One day or evening during the first or second weeks in July. The exact dates and times for this event will be determined annually.

(20) Perrysburg/Maumee 4th of July Fireworks, Perrysburg, OH: (i) Location: All waters of the Maumee River, within an 850-foot radius of the fireworks launch site located at position 41°33′27″ N, 83°38′59″ W. (NAD 83). This position is located at the Perrysburg/Maumee Hwy 20 Bridge.

(ii) Expected date: One evening during the first week in July. The exact dates and times for this event will be determined annually.

(21) Lakeside July 4th Fireworks, Lakeside, OH: (i) Location: All waters of Lake Erie, within a 560-foot radius of the fireworks launch site located at position 41°32′52″ N, 82°45′03″ W. (NAD 83). This position is located at the Lakeside Association Dock.

(ii) Expected date: One evening during the first week in July. The exact dates and times for this event will be determined annually.

(22) Catawba Island Club Fireworks, Catawba Island, OH: (i) Location: All waters of Lake Erie, within a 300-yard radius of the fireworks launch site located at position 41°34′20″ N, 82°51′18″ W. (NAD 83). This position is located at the northwest end of the Catawba Cliffs Harbor Light Pier.

(ii) Expected date: One evening during the first week in July. The exact dates and times for this event will be determined annually.

(23) Red, White and Blues Bang Fireworks, Huron, OH: (i) Location: All waters of the Huron River, within a 300-yard radius of the fireworks launch site located at position 41°23′29″ N, 82°32′55″ W. (NAD 83). This position is located at the Huron Ore Docks in Huron, OH.

(ii) Expected date: One evening during the first week in July. The exact dates and times for this event will be determined annually.

(24) Huron Riverfest Fireworks, Huron, OH: (i) Location: All waters of Huron Harbor, within a 350-foot radius of the fireworks launch site located at the Huron Ore Docks at position 41°23′38″ N, 82°32′59″ W. (NAD 83).

(ii) Expected date: One evening during the second week in July. The exact dates and times for this event will be determined annually.

(25) Kellys Island, Island Fest Fireworks, Kellys Island, OH: (i) Location: All waters of Lake Erie, within a 300-yard radius of the fireworks launch site located at position 41°35′43″ N, 82°43′30″ W. (NAD 83). This position is located at the old Neuman Boat Line Dock.

(ii) Expected date: One evening during the third or fourth weeks in July. The exact dates and times for this event will be determined annually.

(26) Riverfest at the International Docks, Toledo, OH: (i) Location: All waters of the Maumee River, extending from the bow of the museum ship SS WILLIS B. BOYER (41°38′35″ N, 83°31′54″ W), then north/north-east to the south end of the City of Toledo Street (41°38′51″ N, 83°31′50″ W), then south-west to the red nun buoy #64 (41°38′48″ N, 83°31′58″ W), then south/south-east back to the point of origin at the bow of the museum ship SS WILLIS B. BOYER. (NAD 83).

(ii) Expected date: One evening during the first week in September. The exact dates and times for this event will be determined annually.

(27) Rossford Labor Day Fireworks, Rossford, OH: (i) Location: All waters of the Maumee River, within a 350-yard radius of the fireworks launch site located at position 41°36′58″ N, 83°33′56″ W. (NAD 83). This position is located at Veterans Memorial Park.

(ii) Expected date: One evening during the first week in September. The exact dates and times for this event will be determined annually.

(28) Lakeside Labor Day Fireworks, Lakeside, OH: (i) Location: All waters of Lake Erie, within a 560-foot radius of the fireworks launch site located at position 41°32′52″ N, 82°45′03″ W. (NAD 83). This position is located at the Lakeside Association Dock.

(ii) Expected date: One evening during the first week in September. The exact dates and times for this event will be determined annually.

(29) Catawba Island Club Fireworks, Catawba Island, OH: (i) Location: All waters of Lake Erie, within a 300-yard radius of the fireworks launch site located at position 41°34′20″ N, 82°51′18″ W. (NAD 83). This position is located at the northwest end of the Catawba Cliffs Harbor Light Pier.

(ii) Expected date: One evening during the first week in September. The exact dates and times for this event will be determined annually.

(30) Bay-Rama Fishfly Festival Fireworks, New Baltimore, MI:

(i) Location: All waters of Lake St. Clair-Anchor Bay, off New Baltimore City Park, within a 300-yard radius of the fireworks launch site located at position 42°41′ N, 082°44′ W (NAD 83).

(ii) Expected date: One evening during the first week in June. The exact dates and times for this event will be determined annually.

(31) Lake Erie Metropark Fireworks, Gibraltar, MI: (i) Location: All waters of Lake Erie, off Lake Erie Metro Park, within a 300-yard radius of the fireworks launch site located at position 42°03′ N, 083°11′ W (NAD 83). This position is located off the Brownstown Wave pool area.

(ii) Expected date: One evening during the first week in July. The exact dates and times for this event will be determined annually.

(32) City of St. Clair Fireworks, St. Clair, MI: (i) Location: All waters off the St. Clair River near St. Clair City Park, within a 300-yard radius of the fireworks launch site located at position 42°49′ N, 082°29′ W (NAD 83).

(ii) Expected date: One evening during the first week in July. The exact dates and times for this event will be determined annually.

(33) Oscoda Township Fireworks, Oscoda, MI: (i) Location: All waters of Lake Huron, off the DNR Boat Launch near the mouth of the Au Sable River within a 300-yard radius of the fireworks launch site located at position 44°19′ N, 083°25′ W (NAD 83).

(ii) Expected date: One evening during the first week in July. The exact dates and times for this event will be determined annually.

(34) Port Austin Fireworks, Port Austin, MI: (i) Location: All waters of Lake Huron, off the Port Austin break wall within a 300-yard radius of the fireworks launch site located at position 42°03′ N, 082°40′ W. (NAD 83).

(ii) Expected date: One evening during the first week in July. The exact dates and times for this event will be determined annually.

(35) City of Wyandotte Fireworks, Wyandotte, MI: (i) Location: All waters of the Detroit River, off the break wall between Oak and Van Alstyne St., within a 300-yard radius of the fireworks launch site located at position 42°12′ N, 083°09′ W. (NAD 83).

(ii) Expected date: One evening during the first week in July. The exact dates and times for this event will be determined annually.

(36) Grosse Pointe Farms Fireworks, Grosse Point Farms, MI:

(i) Location: All waters of Lake St. Clair, within a 300-yard radius of the fireworks barge located at position 42°23′ N, 082°52′ W. (NAD 83). This position is located 300 yards east of Grosse Pointe Farms, MI.

(ii) Expected date: One evening during the first week in July. The exact dates and times for this event will be determined annually.

(37) Caseville Fireworks, Caseville, MI: (i) Location: All waters of Saginaw Bay, within a 300-yard radius of the fireworks launch site located at position 43°56.9′ N, 083°17.2′ W. (NAD 83). This position is located off the Caseville break wall.

(ii) Expected date: One evening during the first week in July. The exact dates and times for this event will be determined annually.

(38) Algonac Pickerel Tournament Fireworks, Algonac, MI: (i) Location: All waters of the St. Clair River, within a 300-yard radius of the fireworks barge located at position 41°37′ N, 082°32′ W. (NAD 83). This position is located between Algonac and Russel Island, St. Clair River-North Channel.

(ii) Expected date: One evening during the first week in July. The exact dates and times for this event will be determined annually.

(39) Port Sanilac Fireworks, Port Sanilac, MI: (i) Location: All waters of Lake Huron within a 300-yard radius of the fireworks launch site located at position 43°25′ N, 082°31′ W. (NAD 83). This position is located at the South Harbor Break wall in Port Sanilac.

(ii) Expected date: One evening during the first week in July. The exact dates and times for this event will be determined annually.

(40) St. Clair Shores Fireworks, St. Clair Shores, MI: (i) Location: All waters of Lake St. Clair within a 300-yard radius of the fireworks barge located at position 42°32′ N, 082°51′ W. (NAD 83). This position is located 1000 yards east of Veteran's Memorial Park, St. Clair Shores.

(ii) Expected date: One evening during the first week in July. The exact dates and times for this event will be determined annually.

(41) Port Huron 4th of July Fireworks, Port Huron, MI: (i) Location: All waters of the Black River within a 300-yard radius of the fireworks barge located at position 42°58′ N, 082°25′ W. (NAD 83). This position is located 300 yards east of 223 Huron Ave., Black River.

(ii) Expected date: One evening during the first week in July. The exact dates and times for this event will be determined annually.

(42) Grosse Point Yacht Club 4th of July Fireworks, Grosse Point Shores, MI: (i) Location: All waters of Lake St. Clair within a 300-yard radius of the fireworks barge located at position 42°25′ N, 082°52′ W. (NAD 83). This position is located 400 yards east of the Grosse Point Yacht Club seawall, Lake St. Clair.

(ii) Expected date: One evening during the first week in July. The exact dates and times for this event will be determined annually.

(43) Lexington Independence Festival Fireworks, Lexington, MI: (i) Location: All waters of Lake Huron within a 300-yard radius of the fireworks barge located at position 43°13′ N, 082°30′ W. (NAD 83). This position is located 300 yards east of the Lexington break wall, Lake Huron.

(ii) Expected date: One evening during the first week in July. The exact dates and times for this event will be determined annually.

(44) City of Ecorse Water Festival Fireworks, Ecorse, MI: (i) Location: All waters of the Detroit River within a 300-yard radius of the fireworks barge located at position 41°14′ N, 083°09′ W. (NAD 83). This position is located in the Ecorse Channel at the northern end of Mud Island.

(ii) Expected date: One evening during the first week in July. The exact dates and times for this event will be determined annually.

(45) Grosse Isle Yacht Club Fireworks, Grosse Isle, MI: (i) Location: All waters of the Detroit River within a 300-yard radius of the fireworks launch site located at position 42°05′ N, 083°09′ W. (NAD 83). This position is located in front of the Grosse Isle Yacht Club.

(ii) Expected date: One evening during the first week in July. The exact dates and times for this event will be determined annually.

(46) Trenton Fireworks, Trenton, MI: (i) Location: All waters of the Detroit River within a 300-yard radius of the fireworks barge located at position 42°09′ N, 083°10′ W. (NAD 83). This position is located 200 yards east of Trenton in the Trenton Channel near Trenton, MI.

(ii) Expected date: One evening during the first week in July. The exact dates and times for this event will be determined annually.

(47) Belle Maer Harbor 4th of July Fireworks, Harrison Township, MI: (i) Location: All waters of Lake St. Clair within a 300-yard radius of the fireworks barge located at position 42°36′ N, 082°47′ W. (NAD 83). This position is located 400 yards east of Belle Maer Harbor, Lake St. Clair.

(ii) Expected date: One evening during the first week in July. The exact dates and times for this event will be determined annually.

(48) Tawas City 4th of July Fireworks, Tawas, MI: (i) Location: All waters of Lake Huron within a 300-yard radius of the fireworks launch site located at position 44°13′ N, 083°30′ W. (NAD 83). This position is located off the Tawas City Pier.

(ii) Expected date: One evening during the first week in July. The exact dates and times for this event will be determined annually.

(49) Venetian Festival Boat Parade and Fireworks, St. Clair Shores, MI: (i) Location: All waters of Lake St. Clair within a 300-yard radius of the fireworks barge located at position 42°28′ N, 082°52′ W. (NAD 83). This position is located 600 yards off Jefferson Beach Marina, Lake St. Clair.

(ii) Expected date: One evening during the second week in August. The exact dates and times for this event will be determined annually.

(b) Definitions. The following definitions apply to this section: (1) Designated Representative means any Coast Guard commissioned, warrant, or petty officer designated by the Captain of the Port Detroit to monitor a safety zone, permit entry into the zone, give legally enforceable orders to persons or vessels within the zones, and take other actions authorized by the Captain of the Port.

(2) Public vessel means vessels owned, chartered, or operated by the United States, or by a State or political subdivision thereof.

(c) Regulations. (1) In accordance with the general regulations in § 165.23 of this part, entry into, transiting, or anchoring within this safety zone is prohibited unless authorized by the Captain of the Port Detroit, or his designated representative.

(2)(i) These safety zones are closed to all vessel traffic, except as may be permitted by the Captain of the Port Detroit or his designated representative.

(ii) All persons and vessels must comply with the instructions of the Coast Guard Captain of the Port or his designated representative.

(iii) Upon being hailed by the U.S. Coast Guard by siren, radio, flashing light or other means, the operator of a vessel shall proceed as directed.

(3)(i) All vessels must obtain permission from the Captain of the Port or his designated representative to enter, move within, or exit the safety zone established in this section when this safety zone is enforced.

(ii) Vessels and persons granted permission to enter the safety zone must obey all lawful orders or directions of the Captain of the Port or a designated representative.

(iii) While within a safety zone, all vessels must operate at the minimum speed necessary to maintain a safe course.

(d) Exemption. Public vessels, as defined in paragraph (b) of this section, are exempt from the requirements in this section.

(e) Waiver. For any vessel, the Captain of the Port Detroit or his designated representative may waive any of the requirements of this section, upon finding that operational conditions or other circumstances are such that application of this section is unnecessary or impractical for the purposes of public or environmental safety.

(f) Notification. The Captain of the Port Detroit will notify the public that the safety zones in this section are or will be enforced by all appropriate means to the affected segments of the public including publication in the Federal Register as practicable, in accordance with 33 CFR 165.7(a). Such means of notification may also include, but are not limited to Broadcast Notice to Mariners or Local Notice to Mariners. The Captain of the Port will issue a Broadcast Notice to Mariners notifying the public when enforcement of the safety zone established by this section is cancelled.

§ 165.907 [Removed]

3. Remove and reserve § 165.907.

Dated: May 7, 2008.
P.W. Brennan,
Captain, U.S. Coast Guard, Captain of the Port Detroit.

[FR Doc. E8-11408 Filed 5-21-08; 8:45 am]

BILLING CODE 4910-15-P